DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of existing and projected regulations as well as actions completed since the publication of the last regulatory agenda for the Department. DHS's last semiannual regulatory agenda was published online on December 10, 2021, at http://www.reginfo.gov/public/do/eAgendaMain.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Dated: April 1, 2022.
Christina E. McDonald,
Associate General Counsel for Regulatory Affairs.

Office of the Secretary—Proposed Rule Stage
Sequence No. | Title | Regulation Identifier No.
119 | Homeland Security Acquisition Regulation, Enhancement of Whistleblower Protections for Contractor Employees | 1601-AA72
120 | Homeland Security Acquisition Regulation: Information Technology Security Awareness Training (HSAR Case 2015-002) | 1601-AA78

Office of the Secretary—Final Rule Stage
Sequence No. | Title | Regulation Identifier No.
121 | Homeland Security Acquisition Regulation: Safeguarding of Controlled Unclassified Information (HSAR Case 2015-001) | 1601-AA76

Office of the Secretary—Completed Actions
Sequence No. | Title | Regulation Identifier No.
122 | Homeland Security Acquisition Regulation: Privacy Training (HSAR Case 2015-003) | 1601-AA79

U.S. Citizenship and Immigration Services—Proposed Rule Stage
Sequence No. | Title | Regulation Identifier No.
123 | U.S. Citizenship and Immigration Services Fee Schedule | 1615-AC68

U.S. Citizenship and Immigration Services—Long-Term Actions
Sequence No. | Title | Regulation Identifier No.
124 | Requirements for Filing Motions and Administrative Appeals | 1615-AB98

U.S. Coast Guard—Proposed Rule Stage
Sequence No. | Title | Regulation Identifier No.
125 | Claims Procedures Under the Oil Pollution Act of 1990 (USCG-2004-17697) | 1625-AA03
126 | Lifejacket Approval Harmonization | 1625-AC62

U.S. Coast Guard—Long-Term Actions
Sequence No. | Title | Regulation Identifier No.
127 | Commercial Fishing Vessels—Implementation of 2010 and 2012 Legislation | 1625-AB85

U.S. Customs and Border Protection—Long-Term Actions
Sequence No. | Title | Regulation Identifier No.
128 | Importer Security Filing and Additional Carrier Requirements (Section 610 Review) | 1651-AA70
129 | Implementation of the Guam-CNMI Visa Waiver Program (Section 610 Review) | 1651-AA77

Transportation Security Administration—Long-Term Actions
Sequence No. | Title | Regulation Identifier No.
130 | Amending Vetting Requirements for Employees With Access to a Security Identification Display Area (SIDA) | 1652-AA70

Cybersecurity and Infrastructure Security Agency—Proposed Rule Stage
Sequence No. | Title | Regulation Identifier No.
131 | Ammonium Nitrate Security Program | 1670-AA00

Cybersecurity and Infrastructure Security Agency—Long-Term Actions
Sequence No. | Title | Regulation Identifier No.
132 | Chemical Facility Anti-Terrorism Standards (CFATS) | 1670-AA01

DEPARTMENT OF HOMELAND SECURITY (DHS)

Office of the Secretary (OS)

Proposed Rule Stage

119. Homeland Security Acquisition Regulation, Enhancement of Whistleblower Protections for Contractor Employees [1601-AA72]

Legal Authority: Sec. 827 of the National Defense Authorization Act (NDAA) for Fiscal Year 2013, (Pub. L. 112-239, enacted January 2, 2013); 41 U.S.C. 1302(a)(2) and 1707

Abstract: The Department of Homeland Security (DHS) is proposing to amend its Homeland Security Acquisition Regulation (HSAR) parts 3003 and 3052 to implement section 827 of the National Defense Authorization Act (NDAA) for Fiscal Year (FY) 2013 (Pub. L. 112-239, enacted January 2, 2013) for the United States Coast Guard (USCG). Section 827 of the NDAA for FY 2013 established enhancements to the Whistleblower Protections for Contractor Employees for all agencies subject to section 2409 of title 10, United States Code, which includes the USCG.

Timetable:

Action | Date | FR Cite
NPRM | 05/00/23

Regulatory Flexibility Analysis Required: Yes.

Agency Contact: Nancy Harvey, Policy Analyst, Department of Homeland Security, Office of the Chief Procurement Officer, Room 3636-15, 301 7th Street SW, Washington, DC 20528, Phone: 202 447-0956, Email: nancy.harvey@hq.dhs.gov.

RIN: 1601-AA72

120. Homeland Security Acquisition Regulation: Information Technology Security Awareness Training (HSAR Case 2015-002) [1601-AA78]

Legal Authority: 5 U.S.C. 301 and 302; 41 U.S.C. 1707, 1302 and 1303

Abstract: This Homeland Security Acquisition Regulation (HSAR) rule would standardize information technology security awareness training and DHS Rules of Behavior requirements for contractor and subcontractor employees who access DHS information systems and information resources or contractor-owned and/or operated information systems and information resources capable of collecting, processing, storing, or transmitting controlled unclassified information (CUI).

Timetable:

Action | Date | FR Cite
NPRM | 01/19/17 | 82 FR 6446
NPRM Comment Period End | 03/20/17
NPRM Comment Period Extended | 03/20/17 | 82 FR 14341
NPRM Comment Period Extended End | 04/19/17
Supplemental NPRM | 09/00/22

Regulatory Flexibility Analysis Required: Yes.

Agency Contact: Shaundra Ford, Procurement Analyst, Department of Homeland Security, Office of the Chief Procurement Officer, Acquisition Policy and Legislation, 245 Murray Lane SW, Washington, DC 20528, Phone: 202 447-0056, Email: shaundra.ford@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA78

DEPARTMENT OF HOMELAND SECURITY (DHS)

Office of the Secretary (OS)

Final Rule Stage

121. Homeland Security Acquisition Regulation: Safeguarding of Controlled Unclassified Information (HSAR Case 2015-001) [1601-AA76]

Legal Authority: 5 U.S.C. 301 to 302; 41 U.S.C. 1302, 1303 and 1707

Abstract: This Homeland Security Acquisition Regulation (HSAR) rule would implement security and privacy measures to ensure Controlled Unclassified Information (CUI), such as Personally Identifiable Information (PII), is adequately safeguarded by DHS contractors. Specifically, the rule would define key terms, outline security requirements and inspection provisions for contractor information technology (IT) systems that store, process or transmit CUI, institute incident notification and response procedures, and identify post-incident credit monitoring requirements.

Timetable:

Action | Date | FR Cite
NPRM | 01/19/17 | 82 FR 6429
NPRM Comment Period End | 03/20/17
NPRM Comment Period Extended | 03/20/17 | 82 FR 14341
NPRM Comment Period Extended End | 04/19/17
Final Rule | 09/00/22

Regulatory Flexibility Analysis Required: Yes.

Agency Contact: Shaundra Ford, Procurement Analyst, Department of Homeland Security, Office of the Chief Procurement Officer, Acquisition Policy and Legislation, 245 Murray Lane SW, Washington, DC 20528, Phone: 202 447-0056, Email: shaundra.ford@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA76

DEPARTMENT OF HOMELAND SECURITY (DHS)

Office of the Secretary (OS)

Completed Actions

122. Homeland Security Acquisition Regulation: Privacy Training (HSAR Case 2015-003) [1601-AA79]

Legal Authority: 5 U.S.C. 301 and 302; 41 U.S.C. 1303, 1702 and 1707

Abstract: This Homeland Security Acquisition Regulation (HSAR) rule would require contractors to complete training that addresses the protection of privacy, in accordance with the Privacy Act of 1974, and the handling and safeguarding of Personally Identifiable Information and Sensitive Personally Identifiable Information. DHS is withdrawing this regulatory action, because privacy training is covered by the Federal Acquisition Regulation final rule titled Privacy Training (81 FR 93476, Dec. 20, 2016) and DHS FAR Class Deviation Number 17-03.

Timetable:

Action | Date | FR Cite
NPRM | 01/19/17 | 82 FR 6425
NPRM Comment Period End | 03/20/17
NPRM Comment Period Extended | 03/20/17 | 82 FR 14341
NPRM Comment Period Extended End | 04/19/17
Notice of Withdrawal | 12/10/21 | 86 FR 70429

Regulatory Flexibility Analysis Required: Yes.

Agency Contact: Candace Lightfoot, Procurement Analyst, Department of Homeland Security, Office of the Chief Procurement Officer, Acquisition Policy and Legislation, Room 3636-15, 301 7th Street SW, Washington, DC 20528, Phone: 202 447-0082, Email: candace.lightfoot@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA79

DEPARTMENT OF HOMELAND SECURITY (DHS)

U.S. Citizenship and Immigration Services (USCIS)

Proposed Rule Stage

123. U.S. Citizenship and Immigration Services Fee Schedule [1615-AC68]

Legal Authority: 8 U.S.C. 1356(m), (n)

Abstract: DHS will propose to adjust the fees charged by U.S. Citizenship and Immigration Services (USCIS) for immigration and naturalization benefit requests. On August 3, 2020, DHS adjusted the fees USCIS charges for immigration and naturalization benefit requests, imposed new fees, revised certain fee waiver and exemption policies, and changed certain application requirements via the rule “USCIS Fee Schedule & Changes to Certain Other Immigration Benefit Request Requirements.” DHS has been preliminarily enjoined from implementing that rule by court order. This rule would rescind and replace the changes made by the August 3, 2020, rule and establish new USCIS fees to recover USCIS operating costs.

Timetable:

Action | Date | FR Cite
NPRM | 09/00/22

Regulatory Flexibility Analysis Required: Yes.

Agency Contact: Kika M. Scott, Chief Financial Officer, Department of Homeland Security, U.S. Citizenship and Immigration Services, 5900 Capital Gateway Drive, Suite 4S190, Camp Springs, MD 20588-0009, Phone: 240 721-3000.

RIN: 1615-AC68

DEPARTMENT OF HOMELAND SECURITY (DHS)

U.S. Citizenship and Immigration Services (USCIS)

Long-Term Actions

124. Requirements for Filing Motions and Administrative Appeals [1615-AB98]

Legal Authority: 5 U.S.C. 552 and 552a; 8 U.S.C. 1101, 1103 and 1304; 6 U.S.C. 112

Abstract: The Department of Homeland Security (DHS) is proposing this rule to improve the administration of U.S. Citizenship and Immigration Services (USCIS) appeals, motions, and certifications. The proposed changes would update and restructure the regulations in order to clarify and streamline the administrative review process, increase efficiency, and reflect the establishment of DHS and its components.

Timetable:

Action | Date | FR Cite
NPRM | 12/00/23

Regulatory Flexibility Analysis Required: Yes.

Agency Contact: William K. Renwick, Jr., Branch Chief, Department of Homeland Security, U.S. Citizenship and Immigration Services, Administrative Appeals Office, 5900 Capital Gateway Drive, Suite 4S190, Camp Springs, MD 20588-0009, Phone: 240 721-3000.

RIN: 1615-AB98

DEPARTMENT OF HOMELAND SECURITY (DHS)

U.S. Coast Guard (USCG)

Proposed Rule Stage

125. Claims Procedures Under the Oil Pollution Act of 1990 (USCG-2004-17697) [1625-AA03]

Legal Authority: 33 U.S.C. 2713 and 2714

Abstract: The purpose of this project is to remove superseded regulations at 33 Code of Federal Regulations (CFR) part 135, and to finalize the Oil Pollution Act of 1990 (OPA90) claims procedures at 33 CFR part 136. The OPA90 claims procedures, implementing OPA90 section 1013 (Claims Procedures) and section 1014 (Designation of Source and Advertisement), were established by an interim rule, titled “Claims under the Oil Pollution Act of 1990” (Interim Rule) that has not been substantively amended since it was published in 1992. This rulemaking supports the Coast Guard's strategic goal of protection of natural resources.

Timetable:

Action | Date | FR Cite
Interim Final Rule | 08/12/92 | 57 FR 36314
Correction | 09/09/92 | 57 FR 41104
Interim Final Rule Comment Period End | 12/10/92
Notice of Inquiry | 11/01/11 | 76 FR 67385
Notice of Inquiry Comment Period End | 01/30/12
NPRM | 05/00/23

Regulatory Flexibility Analysis Required: Yes.

Agency Contact: Benjamin White, Project Manager, Department of Homeland Security, U.S. Coast Guard, National Pollution Funds Center (NPFC), 2703 Martin Luther King Jr. Avenue SE, STOP 7605, Washington, DC 20593-7605, Phone: 202 795-6066, Email: benjamin.h.white@uscg.mil.

RIN: 1625-AA03

126. Lifejacket Approval Harmonization [1625-AC62]

Legal Authority: 46 U.S.C. 3306(a); 46 U.S.C. 3306(b); 46 U.S.C. 4102(a); 46 U.S.C. 4102(b); 46 U.S.C. 4302(a); 46 U.S.C. 4502(a); 46 U.S.C. 4502(c)(2)(B)

Abstract: The Coast Guard proposes to amend the lifejacket approval requirements and follow-up program requirements by incorporating new bi-national standards. At the same time, the Coast Guard proposes to amend lifejacket and personal flotation devices (PFDs) carriage requirements to allow for the use of equipment approved to the new standards, and to remove obsolete equipment approval requirements. The new standards are state-of-the-art and are intended to replace the legacy standards. The proposed amendments will streamline the process for approval of PFDs and allow manufacturers the opportunity to produce more innovative equipment that meets the approval requirements of both Canada and the United States, while reducing the burden for manufacturers in both the approval process and follow-up program. These proposed changes are expected to promote economic relief. The proposed rule is expected to promote economic relief by reducing the regulatory burden on PFD manufacturers by harmonizing our PFD approval standards with Canada, requiring less frequent inspections of manufacturing facilities, providing lower cost PFD user manuals, and by creating a new market in PFDs with a lower buoyancy rating. This rule is consistent with Executive Order 14058, which directs agencies to take actions that improve service delivery and customer experience by decreasing administrative burdens, enhancing transparency, and improving the efficiency and effectiveness of government.

Timetable:

Action | Date | FR Cite
NPRM | 12/00/22 |

Regulatory Flexibility Analysis Required: Yes.

Agency Contact: Jacqueline M. Yurkovich, Project Manager, Department of Homeland Security, U.S. Coast Guard, Office of Design and Engineering Standards (CG-ENG-4), 2703 Martin Luther King Jr. Avenue SE, STOP 7509, Washington, DC 20593-7509, Phone: 202 372-1389, Email: jacqueline.m.yurkovich@uscg.mil.

RIN: 1625-AC62

DEPARTMENT OF HOMELAND SECURITY (DHS)

U.S. Coast Guard (USCG)

Long-Term Actions

127. Commercial Fishing Vessels—Implementation of 2010 and 2012 Legislation [1625-AB85]

Legal Authority: 46 U.S.C. 4502 and 5103; Pub. L. 111-281

Abstract: The Coast Guard would implement 2010 and 2012 legislation that pertains to uninspected commercial fishing industry vessels. The requirements took effect upon enactment of the legislation but require amendments to Coast Guard regulations to be implemented. Coast Guard is changing the applicability of the regulations, and adding new requirements to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 10/19/16 |
NPRM Comment Period Extended End | 12/18/16 |
Final Rule | 07/00/23 |

Regulatory Flexibility Analysis Required: Yes.

Agency Contact: Morgan Benggio, Marine Transportation Safety Specialist, Department of Homeland Security, U.S. Coast Guard, Office of Commercial Vessel Compliance (CG-CVC-3), 2703 Martin Luther King Jr. Avenue SE, Stop 7501, Washington, DC 20593-7501, Phone: 202 372-1246, Email: morgan.d.benggio@uscg.mil.

RIN: 1625-AB85

DEPARTMENT OF HOMELAND SECURITY (DHS)

U.S. Customs and Border Protection (USCBP)

Long-Term Actions

128. Importer Security Filing And Additional Carrier Requirements (Section 610 Review) [1651-AA70]

Legal Authority: Pub. L. 109-347, sec. 203; 5 U.S.C. 301; 19 U.S.C. 66; 19 U.S.C. 1431; 19 U.S.C. 1433 and 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the Notice of Proposed Rulemaking. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements and also invited comments on the revised Regulatory Assessment and Final Regulatory Flexibility Analysis. (See 73 FR 71782-85 for regulatory text and 73 CFR 71733-34 for general discussion.)

Timetable:

Action | Date | FR Cite
NPRM | 01/02/08 | 73 FR 90
NPRM Comment Period End | 03/03/08 |
NPRM Comment Period Extended | 02/01/08 | 73 FR 6061
NPRM Comment Period Extended End | 03/18/08 |
Interim Final Rule | 11/25/08 | 73 FR 71730
Interim Final Rule Effective | 01/26/09 |
Interim Final Rule Comment Period End | 06/01/09 |
Correction | 07/14/09 | 74 FR 33920
Correction | 12/24/09 | 74 FR 68376
Next Action Undetermined

Regulatory Flexibility Analysis Required: Yes.

Agency Contact: Brian Sale, Branch Chief, Manifest & Conveyance Security Division, Cargo & Conveyance, Office of Field Operation, Department of Homeland Security, U.S. Customs and Border Protection, 1300 Pennsylvania Avenue NW, Washington, DC 20229, Phone: 202 325-3338, Email: brian.a.sale@cbp.dhs.gov; ofo-manifestbranch@cbp.dhs.gov.

RIN: 1651-AA70

129. Implementation of the Guam-CNMI VISA Waiver Program (Section 610 Review) [1651-AA77]

Legal Authority: Pub. L. 110-229, sec. 702

Abstract: The interim final rule amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09 |
Interim Final Rule Comment Period End | 03/17/09 |
Technical Amendment; Change of Implementation Date | 05/28/09 | 74 FR 25387
Final Action | To Be Determined

Regulatory Flexibility Analysis Required: No.

Agency Contact: Neyda I. Yejo, Program Manager, Electronic System for Travel Authorization, Office of Field Operations, Department of Homeland Security, U.S. Customs and Border Protection, 1300 Pennsylvania Avenue NW, Washington, DC 20229, Phone: 202 344-2373, Email: neyda.i.yejo@cbp.dhs.gov.

RIN: 1651-AA77

DEPARTMENT OF HOMELAND SECURITY (DHS)

Transportation Security Administration (TSA)

Long-Term Actions

130. Amending Vetting Requirements for Employees With Access to a Security Identification Display Area (SIDA) [1652-AA70]

Legal Authority: Pub. L. 114-190, sec. 3405

Abstract: As required by the FESSA, TSA will propose a rule to revise its regulations, reflecting current knowledge of insider threat and intelligence, to enhance the eligibility requirements and disqualifying criminal offenses for individuals seeking or having unescorted access to any SIDA of an airport. Consistent with the statutory mandate, TSA will consider adding to the list of disqualifying criminal offenses and criteria, develop a waiver process for approving the issuance of credentials for unescorted access, and propose an extension of the look back period for disqualifying crimes. As part of TSA's reevaluation of the eligibility and redress standards for aviation workers required by the Act, TSA is also reevaluating the current vetting process to minimize any security risks that may exist.

Timetable:

Action | Date | FR Cite
NPRM | To Be Determined

Regulatory Flexibility Analysis Required: Yes.

Agency Contact: Kevin Knott, Branch Manager, Airports Policy Branch-Aviation Division, Department of Homeland Security, Transportation Security Administration, Policy, Plans, and Engagement, 6595 Springfield Center Drive, Springfield, VA 20598-6028, Phone: 571 227-4370, Email: kevin.knott@tsa.dhs.gov.

James Ruger, Chief Economist, Economic Analysis Branch-Coordination & Analysis Division, Department of Homeland Security, Transportation Security Administration, Policy, Plans, and Engagement, 6595 Springfield Center Drive, Springfield, VA 20598-6028, Phone: 571 227-5519, Email: james.ruger@tsa.dhs.gov.

Christine Beyer, Senior Counsel, Regulations and Security Standards, Department of Homeland Security, Transportation Security Administration, Chief Counsel's Office, 6595 Springfield Center Drive, Springfield, VA 20598-6002, Phone: 571 227-3653, Email: christine.beyer@tsa.dhs.gov.

RIN: 1652-AA70

DEPARTMENT OF HOMELAND SECURITY (DHS)

Cybersecurity and Infrastructure Security Agency (CISA)

Proposed Rule Stage

131. Ammonium Nitrate Security Program [1670-AA00]

Legal Authority: 6 U.S.C. 488 et seq.

Abstract: The Cybersecurity and Infrastructure Security Agency (CISA) is proposing a rulemaking to implement the December 2007 amendment to the Homeland Security Act titled “Secure Handling of Ammonium Nitrate.” This amendment requires the Department of Homeland Security to “regulate the sale and transfer of ammonium nitrate by an ammonium nitrate facility . . . to prevent the misappropriation or use of ammonium nitrate in an act of terrorism.” CISA previously issued a Notice of Proposed Rulemaking (NPRM) on August 3, 2011. CISA is planning to issue a Supplemental Notice of Proposed Rulemaking (SNPRM).

Timetable:

Action | Date | FR Cite
ANPRM | 10/29/08 | 73 FR 64280
ANPRM Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Notice of Availability | 06/03/19 | 84 FR 25495
Notice of Availability Comment Period End | 09/03/19 |
Supplemental NPRM | 04/00/23 |

Regulatory Flexibility Analysis Required: Yes.

Agency Contact: Ryan Donaghy, Deputy Branch Chief for Chemical Security Policy, Rulemaking, and Engagement, Department of Homeland Security, Cybersecurity and Infrastructure Security Agency, 245 Murray Lane SW, Mail Stop 0610, Arlington, VA 20528, Phone: 571 532-4127, Email: ryan.donaghy@cisa.dhs.gov.

RIN: 1670-AA00

DEPARTMENT OF HOMELAND SECURITY (DHS)

Cybersecurity and Infrastructure Security Agency (CISA)

Long-Term Actions

132. Chemical Facility Anti-Terrorism Standards (CFATS) [1670-AA01]

Legal Authority: 6 U.S.C. 621 to 629

Abstract: The Cybersecurity and Infrastructure Security Agency (CISA) previously invited public comment on an Advance Notice of Proposed Rulemaking (ANPRM) during August 2014 for potential revisions to the Chemical Facility Anti-Terrorism Standards (CFATS) regulations. The ANPRM provided an opportunity for the public to provide recommendations for possible program changes. In June 2020, CISA published for public comment a retrospective analysis of the CFATS program. And in January 2021, CISA invited additional public comment through an ANPRM concerning the removal of certain explosive chemicals from CFATS. CISA intends to address many of the subjects raised in both ANPRMs and the retrospective analysis in this regulatory action, including potential updates to CFATS cybersecurity requirements and Appendix A to the CFATS regulations.

Timetable:

Action | Date | FR Cite
ANPRM | 08/18/14 | 79 FR 48693
ANPRM Comment Period End | 10/17/14 |
ANPRM | 01/06/21 | 86 FR 495
Announcement of Availability; Retrospective Analysis | 06/22/20 | 85 FR 37393
Announcement of Availability; Retrospective Analysis Comment Period End | 09/21/20 |
Next Action Undetermined

Regulatory Flexibility Analysis Required: Yes.

Agency Contact: Ryan Donaghy, Deputy Branch Chief for Chemical Security Policy, Rulemaking, and Engagement, Department of Homeland Security, Cybersecurity and Infrastructure Security Agency, 245 Murray Lane SW, Mail Stop 0610, Arlington, VA 20528, Phone: 571 532-4127, Email: ryan.donaghy@cisa.dhs.gov.

RIN: 1670-AA01

[FR Doc. 2022-14604 Filed 8-5-22; 8:45 am]

BILLING CODE 9110-9B-P